SMALL BUSINESS ADMINISTRATION

National Small Business Development Center Advisory Board

AGENCY: U.S. Small Business Administration (SBA).

ACTION: Notice of open Federal Advisory Committee meetings.

SUMMARY: The SBA is issuing this notice to announce the location, date, time and agenda for the 1st quarter meetings of the National Small Business Development Center (SBDC) Advisory Board.

DATES: The meetings for the 1st quarter will be held on the following dates:

Tuesday, October 20, 2015 at 1:00 p.m. EST

Tuesday, November 17, 2015 at 1:00 p.m. EST

Tuesday, December 15, 2015 at 1:00 p.m. EST

ADDRESSES: These meetings will be held via conference call.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC Advisory Board:

SBA Update Annual

Meetings Board

Assignments

Member Roundtable

FOR FURTHER INFORMATION CONTACT: The meeting is open to the public however advance notice of attendance is requested. Anyone wishing to be a listening participant must contact Monika Nixon by fax or email. Her contact information is Monika Nixon, Program Specialist, 409 Third Street SW., Washington, DC 20416, Phone, 202-205-7310, Fax 202-481-5624, email, monika.nixon@sba.gov.

Additionally, if you need accommodations because of a disability or require additional information, please contact Monika Nixon at the information above.

Miguel L' Heureux,
White House Liaison.

[FR Doc. 2015-24856 Filed 10-2-15; 8:45 am]

BILLING CODE 8025-01-P